FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than February 29, 2024.

A. Federal Reserve Bank of Minneapolis (Stephanie Weber, Assistant Vice President) 90 Hennepin Avenue, Minneapolis, Minnesota 55480-0291. Comments can also be sent electronically to MA@mpls.frb.org:

1. Mark J. Heinemann Trust Agreement dated January 23, 2024, Mark Heinemann and Allison Berg Heinemann, as co-trustees, all of Albert Lea, Minnesota; Leslie Heinemann and Lisbeth Heinemann, both of Flandreau, South Dakota; and Thomas T. Berg and Paula D. Berg, both of Albert Lea, Minnesota; as members of the Heinemann Family Control Group, a group acting in concert, to acquire voting shares of Minnesota Community Bancshares, Inc., and thereby indirectly acquire voting shares of Arcadian Bank, both of Albert Lea, Minnesota.

Board of Governors of the Federal Reserve System.
Ann E. Misback,
Secretary of the Board.

[FR Doc. 2024-03023 Filed 2-13-24; 8:45 am]

BILLING CODE P